DEPARTMENT OF COMMERCE

Patent and Trademark Office

Patents for Humanity Program

ACTION: Proposed collection; comment request.

SUMMARY: The United States Patent and Trademark Office (USPTO) as part of its continuing effort to reduce paperwork and respondent burden and as required by the Paperwork Reduction Act of 1995, invites comments on a proposed extension of an existing information collection: 0651-0066 (Patents for Humanity Program).

DATES: Written comments must be submitted on or before November 5, 2018.

ADDRESSES: You may submit comments by any of the following methods:

• Email: InformationCollection@uspto.gov. Include “0651-0066 comment” in the subject line of the message.

• Federal Rulemaking Portal: http://www.regulations.gov.

• Mail: Edward Elliott, Records and Information Governance Division Director, Office of the Chief Technology Officer, United States Patent and Trademark Office, P.O. Box 1450, Alexandria, VA 22313-1450.

FOR FURTHER INFORMATION CONTACT: Requests for additional information should be directed to Edward Elliott, Attorney Advisor, Office of Policy and International Affairs, United States Patent and Trademark Office, P.O. Box 1450, Alexandria, VA 22313-1450; by telephone at 571-272-7024; or by email to Edward.Elliott@uspto.gov with “0651-0066 comment” in the subject line. Additional information about this collection is also available at http://www.reginfo.gov under “Information Collection Review.”

SUPPLEMENTARY INFORMATION:

I. Abstract

Since 2012, the United States Patent and Trademark Office (USPTO) has conducted the Patents for Humanity Program, an annual award program to incentivize the distribution of patented technologies or products for the purpose of addressing humanitarian needs. The program is open to any patent owners or patent licensees, including inventors who have not assigned their ownership rights to others, assignees, and exclusive or non-exclusive licenses. USPTO collects information from applicants that describe what actions they have taken with their patented technology to address the welfare of impoverished populations, or how they furthered research by others on technologies for humanitarian purposes. Currently, there are five categories of awards: Medicine, Nutrition, Sanitation, Household Energy, and Living Standards.

This collection covers information gathered on two application forms for the Patents for Humanity Program. The first application covers the humanitarian uses of technologies or products, and the second application covers humanitarian research. In both, applicants are required to describe how their technology or product satisfies the program criteria to address humanitarian issues. Additionally, applicants must provide non-public contact information in order for USPTO to notify them about their award status. Applicants may optionally provide contact information for the public to reach them with any inquiries. Applications must be submitted via email and will be posted on USPTO's website. Qualified judges from outside USPTO will review and score the applications. USPTO will then forward the top-scoring applications to reviewers from participating Federal agencies to recommend award recipients.

Those applications that are chosen for an award will receive a certificate redeemable to accelerate select matters before USPTO. The certificates can be redeemed to accelerate one of the following matters: An ex parte reexamination proceeding, including one appeal to the Patent Trial and Appeal Board (PTAB) from that proceeding; a patent application, including one appeal to the PTAB from that application; or an appeal to the PTAB of a claim twice rejected in a patent application or reissue application or finally rejected in an ex parte reexamination, without accelerating the underlying matter which generated the appeal. This collection covers the information gathered for petitions to extend an acceleration certificate redemption beyond 12 months. Winners also are invited to participate in an awards ceremony at USPTO.

II. Method of Collection

Electronically through the http://www.uspto.gov/patentsforhumanity website.

III. Data

OMB Number: 0651-0066.

IC Instruments and Forms: PTO/PFH/001, PTO/PFH/002, PTO/SB/431.

Type of Review: Extension of a currently approved collection.

Affected Public: Businesses or other for-profits; not-for-profit businesses; individuals and households.

Estimated Number of Respondents: 55 responses per year.

Estimated Time per Response: USPTO estimates that it will take the public approximately four hours to complete the humanitarian program application. Those selected as winners (about 5 to 10 per year) may additionally require one hour to complete a petition to extend their acceleration certificate redemption beyond 12 months, if needed. These estimated times include gathering the necessary information, preparing the application and any supplemental materials, and submitting the completed request to USPTO.

Estimated Total Annual Respondent Cost Burden: 205 hours.

Estimated Total Annual Respondent (Hourly) Cost Burden: $59,757.50. The USPTO expects that attorneys will complete the Petition to Extend the Redemption Period of the Humanitarian Awards Certificate and that attorneys or paralegals will complete the Humanitarian Program Application Form. The USPTO uses a professional hourly rate of $291.50 for respondent cost burden, which is the average rate of both attorneys and paralegals. The professional hourly rate for an intellectual property attorney in a private firm is $438, as established in the 2017 Report on the Economic Survey, published by the Commerce on the Economics of Legal Practice of the American Intellectual Property Law Association. The professional hourly rate for paralegals is $145, as established in the 2016 National Utilization and Compensation Survey Report, published by the National Association of Legal Assistants (NALA). Using the combined hourly rate, the USPTO estimates that the total respondent cost burden for this collection is $59,757.50 per year.

IC No. | Item | Estimated response time (hours) | Estimated response | Estimated annual burden hours | Rate | Estimated total cost
|  | (a) | (b) | (a) × (b) = (c) | (d) | (c) × (d) = (e)
1 | Humanitarian Program Application (Humanitarian Use) (PTO/PFH/001) | 4 | 25 | 100 | $291.50 | $29,150.00
1 | Humanitarian Program Application (Humanitarian Research) (PTO/PFH/002) | 4 | 25 | 100 | 291.50 | 29,150.00
2 | Petition to Extend the Redemption Period of the Humanitarian Awards Certificate (PTO/SB/431) | 1 | 5 | 5 | 291.50 | 1,457.50
Total |  |  | 55 | 205 |  | 59,757.50

Estimated Total Annual (Non-hour) Respondent Cost Burden: $0. This collection has no annual (non-hour) postage, operation, maintenance, or filing fee costs.

IV. Request for Comments

Comments submitted in response to this notice will be summarized or included in the request for OMB approval of this information collection; they also will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Marcie Lovett,
Records and Information Governance Division Director, OCTO, United States Patent and Trademark Office.

[FR Doc. 2018-19201 Filed 9-4-18; 8:45 am]

BILLING CODE 3510-16-P